DEPARTMENT OF THE TREASURY

Internal Revenue Service

26 CFR Part 1

[REG-138879-05]

RIN 1545-BE87

Treatment of Excess Loss Accounts; Correction

AGENCY: Internal Revenue Service (IRS), Treasury.

ACTION: Correction to notice of proposed rulemaking by cross-reference to temporary regulations.

SUMMARY: This document contains corrections to a notice of proposed rulemaking by cross-reference to temporary regulations that was published in the Federal Register on Thursday, January 26, 2006 (71 FR 4319). These regulations provide guidance under section 1502 that governs certain basis determinations and adjustments of subsidiary stock in certain transactions involving members of a consolidated group.

FOR FURTHER INFORMATION CONTACT: Theresa M. Kolish, (202) 622-7530 (not a toll-free number).

SUPPLEMENTARY INFORMATION:

Background

The notice of proposed rulemaking by cross-reference to temporary regulations (REG-138879-05) that is the subject of these corrections is under section 1502 of the Internal Revenue Code.

Need for Correction

As published, the notice of proposed rulemaking by cross-reference to temporary regulations (REG-138879-05) contains errors that may prove to be misleading and are in need of clarification.

Correction of Publication

Accordingly, the notice of proposed rulemaking by cross-reference to temporary regulations (REG-138879-05), that was the subject of FR Doc. 06-586, are corrected as follows:

PART 1—[CORRECTED]

1. On page 4319, column 2, in the preamble under the paragraph heading FOR FURTHER INFORMATION CONTACT, line 4, the language, “Sonya Cruse, (202) 622-4693 (not toll-” is corrected to read “Treena Garrett, (202) 622-7180 (not toll-”.

2. On page 4319, column 3, in the preamble under the paragraph heading “Special Analysis”, line 15, the language, “business, Moreover, the number of” is corrected to read “businesses. Moreover, the number of”.

3. On page 4320, column 1, under the paragraph heading “PART 1—INCOME TAXES”, Par. 2., item 3, the language, “3. Revising the paragraph heading for paragraph (h).” is removed.

4. On page 4320, column 1, under the paragraph heading “PART 1—INCOME TAXES”, Par. 2., item 5, the language, “5. Adding new paragraph (h)(3).” is corrected to read “5. Adding a new sentence at the end of paragraph (h)(3).”.

§ 1.1502-19 [Corrected]

4. On page 4320, column 1, the section heading, “§ 1.1502-19 Excess Loss Accounts.” is corrected to read “§ 1.1502-19 Excess loss accounts.”.

5. On page 4320, column 1, under the heading “BILLING CODE”, the language,“4820-01-P” is corrected to read “4830-01-P”.

Guy R. Traynor,
Chief, Publications and Regulations Branch, Legal Processing Division, Associate Chief Counsel (Procedure and Administration).

[FR Doc. 06-2535 Filed 3-16-06; 8:45 am]

BILLING CODE 4830-01-P